DEPARTMENT OF EDUCATION

[CFDA NO. 84.215X]

Office of Innovation and Improvement, Teaching American History Program

ACTION: Notice announcing a technical assistance workshop.

SUMMARY: This notice provides information about a technical assistance workshop the Department will be holding to assist eligible applicants interested in preparing grant applications for fiscal year (FY) 2007 new awards under the Teaching American History (TAH) program. Staff will present information about the purpose of the TAH program, selection criteria, application content, submission procedures, and reporting requirements.

The notice inviting applications for new awards for FY 2007 for the TAH program was published in the Federal Register on January 8, 2007 (72 FR 748).

FOR FURTHER INFORMATION CONTACT: Alex Stein, Team Leader, or Emily Fitzpatrick, Program Officer, U.S. Department of Education, 400 Maryland Avenue, SW., Washington, DC 20202-5960. Telephone: (202) 205-9085 or (202) 260-1498. E-mail: teachingamericanhistory@ed.gov.

If you use a telecommunications device for the deaf (TDD), you may call the Federal Relay Service (FRS) at 1-800-877-8339.

Individuals with disabilities may obtain this document in an alternative format (e.g., Braille, large print, audio tape, or computer diskette) on request to the contact person listed in this section.

SUPPLEMENTARY INFORMATION: The technical assistance workshop will be conducted on Wednesday, January 31, 2007, from 9 a.m.-12 p.m. at the Holiday Inn Capitol, 550 C Street, SW., Washington, DC 20024. Hotel telephone: (202) 479-4000. This site is in Southwest Washington, DC, across the street from the U.S. Department of Education headquarters at 400 Maryland Avenue, SW. This site is accessible by Metro on the Blue, Orange, Green, and Yellow Lines at the 7th Street and Maryland Avenue exit of the L'Enfant Plaza station. Please contact the U.S. Department of Education contact persons listed under FOR FURTHER INFORMATION CONTACT if you have any questions about the details of the workshop.

Individuals interested in attending this workshop are encouraged to pre-register by e-mailing their name, organization, and contact information to teachingamericanhistory@ed.gov. There is no registration fee for this workshop. We encourage attendance from those who will be responsible for submitting the application or otherwise providing technical support for submitting the application electronically using the Grants.gov Apply site.

Assistance to Individuals With Disabilities Attending the Technical Assistance Workshop

The technical assistance workshop site is accessible to individuals with disabilities. If you need an auxiliary aid or service to participate in the workshop (e.g., interpreting service, assistive listening device, or materials in an alternative format), notify the contact persons listed under FOR FURTHER INFORMATON CONTACT.

Electronic Access to This Document

You may view this document, as well as other documents of this Department published in the Federal Register, in text or Adobe Portable Document Format (PDF) on the Internet at the following site: http://www.ed.gov/news/fedregister.

To use PDF, you must have Adobe Acrobat Reader, which is available free at this site. If you have any questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

Program Authority: 20 U.S.C. 6721.

Dated: January 18, 2007.
Morgan S. Brown,
Assistant Deputy Secretary for Innovation and Improvement.

[FR Doc. E7-939 Filed 1-22-07; 8:45 am]

BILLING CODE 4000-01-P